DEPARTMENT OF COMMERCE

National Oceanic and Atmospheric Administration

RIN 0648-XA720

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene a meeting of the Reef Fish Advisory Panel.

DATES: The meeting will convene at 1 p.m. on Thursday, October 13, 2011 and conclude by 12 p.m. on Friday, October 14, 2011.

ADDRESSES: The meeting will be held at the Gulf of Mexico Fishery Management Council, 2203 North Lois Avenue, Suite 1100, Tampa, FL 33607.

Council address: Gulf of Mexico Fishery Management Council, 2203 N. Lois Avenue, Suite 1100, Tampa, FL 33607.

FOR FURTHER INFORMATION CONTACT: Mr. Steven Atran, Population Dynamics Statistician; Gulf of Mexico Fishery Management Council; telephone: (813) 348-1630.

SUPPLEMENTARY INFORMATION: The Reef Fish Advisory Panel (AP) will review actions by the Scientific and Statistical Committee (SSC) which meets immediately prior to the AP meeting. The AP will also receive presentations from representatives of the SSC on how acceptable biological catch is set, and on how stock assessments are done. The AP will then review presentations on update assessments for vermilion snapper and gray triggerfish, and will make recommendations on management of those stocks. The AP will also review draft Reef Fish Amendment 35, which contains actions to modify the rebuilding plan and management measures for greater amberjack. The AP will also discuss red snapper issues relating to the five year review of the red snapper individual fishing quota program, and to the data collection programs for the recreational red snapper fishery.

Copies of the agenda and other related materials can be obtained by calling (813) 348-1630 or can be downloaded from the Council's ftp site, ftp.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council (see ADDRESSES) at least 5 working days prior to the meeting.

Dated: September 16, 2011.
Tracey L. Thompson,
Acting Director, Office of Sustainable Fisheries, National Marine Fisheries Service.

[FR Doc. 2011-24303 Filed 9-21-11; 8:45 am]

BILLING CODE 3510-22-P